DEPARTMENT OF THE INTERIOR

National Park Service

[NPS-WASO-NAGPRA-NPS0039099; PPWOCRADN0-PCU00RP14.R50000]

Notice of Intended Repatriation: Autry Museum of the American West, Los Angeles, CA, and San Bernardino County Museum, Redlands, CA

AGENCY: National Park Service, Interior.

ACTION: Notice.

SUMMARY: In accordance with the Native American Graves Protection and Repatriation Act (NAGPRA), the Autry Museum of the American West and San Bernardino County Museums (SMCB) intend to repatriate certain cultural items that meet the definition of unassociated funerary objects and that have a cultural affiliation with the Indian Tribes or Native Hawaiian organizations in this notice.

DATES: Repatriation of the cultural items in this notice may occur on or after December 26, 2024.

ADDRESSES: Karimah Richardson, M.Phil., RPA, Associate Curator of Anthropology and Repatriation Supervisor, Autry Museum of the American West, 4700 Western Heritage Way, Los Angeles, CA 90027, telephone (323) 495-4203, email krichardson@theautry.org and Tamara Serrao-Leiva, MA, RPA, Curator of Anthropology and Chief Deputy, San Bernardino County Museum, 2024 Orange Tree Lane, Redlands, CA 92374, telephone (909) 798-8623, email tserrao-leiva@sbcm.sbcounty.gov.

SUPPLEMENTARY INFORMATION: This notice is published as part of the National Park Service's administrative responsibilities under NAGPRA. The determinations in this notice are the sole responsibility of the Autry Museum of the American West and San Bernardino County Museum, and additional information on the determinations in this notice, including the results of consultation, can be found in the summary or related records. The National Park Service is not responsible for the determinations in this notice.

Abstract of Information Available

A total of 227 lots of cultural items have been requested for repatriation. The 227 unassociated funerary objects are 56 lots of ceramic material, 15 lots of faunal bone, 11 lots of shell material, 108 lots of flaked stone, 32 lots of ground stone, four lots of organic material, and one lot of metal cultural items. In 1947, three field trips (March, April, and May) were made by the Archaeological Survey Association of Southern California (ASA) to Moody Springs (CA-LAn-83) through the leadership of Howard Arden Edwards. These field trips to Moody Springs were made up of just Mr. Edwards and one other person and were given a 1.S accession number. The Southwest Museum (1.S) collection consists of cultural items collected in March of 1947. San Bernardino County Museum (SBCM) also obtained a small group of objects from Moody Springs, which was given the catalog number SBCM-818 (CA-LAn-83). It is unclear why or how SBCM-818 was disenfranchised from the rest of the collection, though there were many instances of collection sharing between the Southwest Museum (now part of the Autry Museum) and SBCM during this period. No ancestors are found in the collection SBCM houses.

Determinations

The Autry Museum of the American West and San Bernardino County Museum has determined that:

• The 227 lots unassociated funerary objects described above are reasonably believed to have been placed intentionally with or near individual human remains, and are connected, either at the time of death or later as part of the death rite or ceremony and are believed, by a preponderance of the evidence, to have been removed from a specific burial site of an individual or individuals with cultural affiliation to an Indian Tribe or Native Hawaiian organization.

• There is a reasonable connection between the cultural items described in this notice and the Yuhaaviatam of San Manuel Nation (previously listed as San Manuel Band of Mission Indians, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 26, 2024. If competing requests for repatriation are received, the Autry Museum of the American West and San Bernardino County Museum must determine the most appropriate requestor prior to repatriation. Requests for joint repatriation of the cultural items are considered a single request and not competing requests. The Autry Museum of the American West and San Bernardino County Museum is responsible for sending a copy of this notice to the Indian Tribes and Native Hawaiian organizations identified in this notice and to any other consulting parties.

Authority: Native American Graves Protection and Repatriation Act, 25 U.S.C. 3004 and the implementing regulations, 43 CFR 10.9.

Dated: November 18, 2024.
Melanie O'Brien,
Manager, National NAGPRA Program.

[FR Doc. 2024-27503 Filed 11-22-24; 8:45 am]

BILLING CODE 4312-52-P